DEPARTMENT OF HOMELAND SECURITY

Office of the Secretary

Waiver of Compliance With Navigation Laws; Hurricane Maria

AGENCY: Office of the Secretary, Department of Homeland Security.

ACTION: Notice.

Hurricane Maria struck Puerto Rico resulting in widespread damage to its infrastructure. In light of this devastation, the Department of Defense (DoD) has requested a 10-day waiver of the Jones Act in the interest of national defense, commencing immediately.

The Jones Act, 46 United States Code (U.S.C.) 55102, states “a vessel may not provide any part of the transportation of merchandise by water, or by land and water, between points in the United States to which the coastwise laws apply, either directly or via a foreign port” unless the vessel was built in and documented under the laws of the United States and is wholly owned by persons who are citizens of the United States. Such a vessel, after obtaining a coastwise endorsement from the U.S. Coast Guard, is “coastwise-qualified.” The coastwise laws generally apply to points in the territorial sea, which is defined as the belt, three nautical miles wide, seaward of the territorial sea baseline, and to points located in internal waters, landward of the territorial sea baseline.

The navigation laws, including the coastwise laws, can be waived under the authority provided by 46 U.S.C. 501. The statute provides in relevant part, “On request of the Secretary of Defense, the head of an agency responsible for the administration of the navigation or vessel-inspection laws shall waive compliance with those laws to the extent the Secretary considers necessary in the interest of national defense.” 46 U.S.C. 501(a).

For the reasons stated above, and in light of the request from the Department of Defense, I am exercising my authority to waive the Jones Act for a 10-day period, commencing immediately, to facilitate movement of all products to be shipped from U.S. coastwise points to Puerto Rico. This waiver applies to covered merchandise laded on board a vessel within the 10-day period of the waiver and delivered by October 18, 2017. Carriers or shippers who conduct transportation pursuant to this waiver should provide notice of the vessel, dates of embarkation and disembarkation, type and quantity of cargo, and port of embarkation to JonesActWaiverRequest@cbp.dhs.gov.

Executed this 28th day of September, 2017.
Elaine C. Duke,
Acting Secretary of Homeland Security.

[FR Doc. 2017-21283 Filed 10-3-17; 8:45 am]

BILLING CODE 9111-14-P